DEPARTMENT OF COMMERCE

Foreign-Trade Zones Board

[Order No. 1391]

Grant Of Authority For Subzone Status, Pfizer, Inc., (Pharmaceuticals/Animal Health Products), Groton, Connecticut, Correction

The Federal Register notice (70 FR 29276, 5/20/2005) describing Foreign-Trade Zones Board Order 1391, authorizing special-purpose subzone status for Pfizer, Inc., in Groton, Connecticut (Subzone 208A) is corrected as follows:

Paragraph 4 should read “Whereas, notice inviting public comment was given in the Federal Register (69 FR 62434, 10/26/2004); and,”

Dated: July 21, 2005.
Dennis Puccinelli,
Executive Secretary.

[FR Doc. 05-15093 Filed 7-29-05; 8:45 am]